DEPARTMENT OF COMMERCE

International Trade Administration

[A-428-841, A-570-925]

Sodium Nitrite from the Federal Republic of Germany and the People's Republic of China: Antidumping Duty Orders

AGENCY: Import Administration, International Trade Administration, Department of Commerce.

SUMMARY: Based on affirmative final determinations by the Department of Commerce (the Department) and the International Trade Commission (the Commission), the Department is issuing antidumping duty orders on sodium nitrite from the Federal Republic of Germany (Germany) and the People's Republic of China (PRC). On August 20, 2008, the Commission notified the Department of its affirmative determination of material injury to a U.S. industry. See Sodium Nitrite from China and Germany (Investigation Nos. 701-TA-453 and 731-TA-1136-1137 (Final), USITC Publication 4029, August 2008).

EFFECTIVE DATE: August 27, 2008.

FOR FURTHER INFORMATION CONTACT: Brian C. Smith (Federal Republic of Germany) or Magd Zalok (People's Republic of China), AD/CVD Operations, Offices 2 and 4, Import Administration, International Trade Administration, U.S. Department of Commerce, 14th Street and Constitution Avenue, NW, Washington, DC 20230; telephone: (202) 482-1766 or (202) 482-4162, respectively.

SUPPLEMENTARY INFORMATION:

Background

On July 8, 2008, the Department published its affirmative final determinations of sales at less-than-fair-value in the antidumping duty investigations of sodium nitrite from Germany and the PRC. See Notice of Final Determination of Sales at Less Than Fair Value: Sodium Nitrite from the Federal Republic of Germany, 73 FR 38986 (July 8, 2008); and Notice of Final Determination of Sales at Less Than Fair Value: Sodium Nitrite from the People's Republic of China, 73 FR 38984 (July 8, 2008).

On August 20, 2008, the Commission notified the Department of its final determination pursuant to section 735(d) of the Tariff Act of 1930, as amended (the Act), that an industry in the United States is materially injured by reason of less-than-fair-value imports of subject merchandise from Germany and the PRC. See section 735(b)(1)(A)(i) of the Act.

Scope of the Orders

The merchandise subject to these orders is sodium nitrite in any form, at any purity level. In addition, the sodium nitrite covered by these orders may or may not contain an anti-caking agent. Examples of names commonly used to reference sodium nitrite are nitrous acid, sodium salt, anti-rust, diazotizing salts, erinitrit, and filmerine. The chemical composition of sodium nitrite is NaNO2 and it is generally classified under subheading 2834.10.1000 of the Harmonized Tariff Schedule of the United States (HTSUS). The American Chemical Society Chemical Abstract Service (CAS) has assigned the name “sodium nitrite” to sodium nitrite. The CAS registry number is 7632-00-0.

While the HTSUS subheading, CAS registry number, and CAS name are provided for convenience and customs purposes, the written description of the scope of these orders is dispositive.

Antidumping Duty Orders

On August 20, 2008, in accordance with section 735(d) of the Act, the Commission notified the Department of its final determination that an industry in the United States is materially injured within the meaning of section 735(b)(1)(A)(i) of the Act by reason of less-than-fair-value imports of subject merchandise from Germany and the PRC.

In accordance with section 736(a)(1) of the Act, the Department will direct U.S. Customs and Border Protection (CBP) to assess, upon further advice by the Department, antidumping duties equal to the amount by which the normal value of the merchandise exceeds the export price or constructed export price of the merchandise for all relevant entries of sodium nitrite from Germany and the PRC. These antidumping duties will be assessed on all unliquidated entries of sodium nitrite entered, or withdrawn from warehouse, for consumption on or after April 23, 2008, the date on which the Department published its notices of preliminary determination in the Federal Register. See Notice of Preliminary Determination of Sales at Less Than Fair Value: Sodium Nitrite from the Federal Republic of Germany, 73 FR 21909 (April 23, 2008); and Notice of Preliminary Determination of Sales at Less Than Fair Value: Sodium Nitrite from the People's Republic of China, 73 FR 21906 (April 23, 2008).

On or after the date of publication of the Commission's notice of final determination in the Federal Register, CBP must require, pursuant to section 735(c)(3) of the Act, at the same time as importers would normally deposit estimated duties on this merchandise, a cash deposit equal to the estimated dumping margins as noted below:

Country | Manufacturer/exporter | Weighted-Average Margin (percent)
Germany | BASF AG | 237.00
| All-Others | 150.82
PRC | PRC-Wide Rate | 190.74

This notice constitutes the antidumping duty orders with respect to sodium nitrite from Germany and the PRC, pursuant to section 736(a) of the Act. Interested parties may contact the Department's Central Records Unit, Room 1117 of the Main Commerce Building, for copies of an updated list of antidumping duty orders currently in effect.

These orders are issued and published in accordance with section 736(a) of the Act and 19 CFR 351.211(b).

Dated: August 21, 2008.
David M. Spooner,
Assistant Secretary for Import Administration.

[FR Doc. E8-19895 Filed 8-26-08; 8:45 am]

BILLING CODE 3510-DS-S